DEPARTMENT OF ENERGY

Federal Energy Regulatory Commission

[Docket No. EL05-91-000]

ISO New England Inc.; Notice of Institution of Proceeding and Refund Effective Date

April 20, 2005.

On April 19, 2005, the Commission issued an order initiating a proceeding in Docket No. EL05-91-000 under section 206 of the Federal Power Act concerning the continued justness and reasonableness of New England ISO's previously-accepted Schedule 3 for Reliability Administration Service. ISO New England Inc. 111 FERC ¶ 61,096 (2005).

The refund effective date in Docket No. EL05-91-000, established pursuant to section 206 of the Federal Power Act, will be 60 days from the date of publication of this notice in the Federal Register.

Magalie R. Salas,
Secretary.

[FR Doc. E5-2008 Filed 4-27-05; 8:45 am]

BILLING CODE 6717-01-P